COMMITTEE FOR PURCHASE FROM PEOPLE WHO ARE BLIND OR SEVERELY DISABLED

Procurement List; Proposed Additions and Deletion

AGENCY: Committee for Purchase From People Who Are Blind or Severely Disabled.

ACTION: Proposed Additions to and Deletion from the Procurement List.

SUMMARY: The Committee is proposing to add services to the Procurement List that will be provided by nonprofit agencies employing persons who are blind or have other severe disabilities and deletes a service previously provided by such agency.

Comments Must Be Received On or Before: 1/30/2012.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the services to the Government.

2. If approved, the action will result in authorizing small entities to provide the services to the Government.

3. There are no known regulatory alternatives which would accomplish the objectives of the Javits-Wagner-O'Day Act (41 U.S.C. Chapter 85) in connection with the services proposed for addition to the Procurement List.

Comments on this certification are invited. Commenters should identify the statement(s) underlying the certification on which they are providing additional information.

End of Certification

The following services are proposed for addition to the Procurement List for production by the nonprofit agencies listed:

Services

Service Type/Location: Grounds Maintenance, National Weather Service, 5655 Hollywood Ave., Shreveport, LA.

NPA: Goodwill Industries of North Louisiana, Inc., Shreveport, LA.

Contracting Activity: Dept of Commerce, National Oceanic and Atmospheric Administration, Boulder, CO.

Service Type/Location: Janitorial, FAA Mike Monroney Aeronautical Center, 6500 S. MacArthur Blvd., Oklahoma City, OK.

NPA: Dale Rogers Training Center, Inc., Oklahoma City, OK.

Contracting Activity: Dept of Transportation, Federal Aviation Administration, Oklahoma City, OK.

Service Type/Location: Custodial Service and Grounds Maintenance, Salmon Airbase, 8 Industrial Lane, U.S. Forest Service, Salmon, ID.

NPA: Development Workshop, Inc., Idaho Falls, ID.

Contracting Activity: US Forest Service, Caribou-Targhee National Forest, Idaho Falls, ID.

Service Type/Location: Custodial and Grounds Maintenance, US Border Station, 160 Garrison Street, Eagle Pass, TX, US Border Station, 500 Adams Street, Eagle Pass, TX, VACIS Border Station, 500 Adams Street, Eagle Pass, TX.

NPA: Endeavors Unlimited, Inc., San Antonio, TX.

Contracting Activity: General Services Administration, Public Buildings Service, ACQ MGT SVC BR, Fort Worth, TX.

Deletion

Regulatory Flexibility Act Certification

I certify that the following action will not have a significant impact on a substantial number of small entities. The major factors considered for this certification were:

1. If approved, the action will not result in additional reporting, recordkeeping or other compliance requirements for small entities.

2. If approved, the action may result in authorizing small entities to provide the service to the Government.

3. There are no known regulatory alternatives which would accomplish the objectives of the Javits-Wagner-O'Day Act (41 U.S.C. Chapter 85) in connection with the service proposed for deletion from the Procurement List.

End of Certification

The following service is proposed for deletion from the Procurement List:

Service

Service Type/Location: Janitorial/Custodial, Naval & Marine Corps Reserve Center, 4087 West Harvard, Boise, ID.

NPA: Western Idaho Training Company, Caldwell, ID.

Contracting Activity: Dept of the Navy, Navy Region Northwest Reserve, Everett, WA.

Barry S. Lineback,
Director, Business Operations.

[FR Doc. 2011-33542 Filed 12-29-11; 8:45 am]

BILLING CODE 6353-01-P